DEPARTMENT OF ENERGY

Federal Energy Regulatory Commission

[Docket No. ER03-296-001, et al.]

Flying Cloud Power Partners, Inc., et al.; Electric Rate and Corporate Filings

April 29, 2003.

The following filings have been made with the Commission. The filings are listed in ascending order within each docket classification.

1. Flying Cloud Power Partners, LLC

[Docket No. ER03-296-001]

Take notice that on April 25, 2003, Flying Cloud Power Partners, LLC, a Delaware limited liability company (Flying Cloud), filed a Change In Status with the Federal Energy Regulatory Commission. Flying Cloud states that the filing reflects a change in ownership of Flying Cloud from Clipper Windpower Development Company, Inc., a Delaware corporation, to Heartland Wind LLC, an Oregon limited liability company, effective March 31, 2003.

Comment Date: May 16, 2003.

2. Southern Company Services, Inc.

[Docket Nos. ER03-386-001, ER02-2455-000, ER02-2015-001]

Take notice that on April 7, 2003, Southern Company Services, Inc., (SCS) acting on behalf of Georgia Power Company (GPC), filed with the Federal Energy Regulatory Commission (Commission) a compliance filing in response to the deficiency letter dated March 6, 2003, by the Director, Division of Tariffs and Market Development-South.

Comment Date: May 9, 2003.

3. Southern Company Services, Inc.

[Docket No. ER03-454-001]

Take notice that on April 24, 2003, Southern Company Services, Inc. (SCS), acting on behalf of Alabama Power Company, Georgia Power Company, Gulf Power Company, Mississippi Power Company, and Savannah Electric and Power Company (collectively Southern Companies), resubmitted three rollover transmission service agreements under the Open Access Transmission Tariff of Southern Companies (FERC Electric Tariff, Fourth Revised Volume No. 5) (Tariff). Specifically, Southern Companies states that these agreements are for firm point-to-point rollover transmission service with Calpine Energy Services, LP (First Revised Service Agreement No. 441), Carolina Power & Light Company (First Revised Service Agreement No. 444), and Duke Energy Corporation (First Revised Service Agreement No. 446) and are being refiled to comply with the Commission's order in this proceeding dated March 26, 2003.

Comment Date: May 15, 2003.

4. PECO Energy Company

[Docket No. ER03-706-001]

Take notice that on April 25, 2003, PECO Energy Company (PECO) submitted for filing a corrected First Revised Sheet No. 42 to the Construction Agreement between PECO and Old Dominion Electric Cooperative (Old Dominion) designated as Service Agreement No. 683 under the PJM Open Access Transmission Tariff. PECO states that it submitted this filing to correct an error in the First Revised Sheet No. 42 that was previously filed with the Commission on April 4, 2003, under Docket ER03-706-000.

PECO states that copies of this filing were served on Old Dominion and PJM Interconnection, L.L.C.

Comment Date: May 16, 2003.

5. Solaro Energy Power Marketing Corporation

[Docket No. ER03-752-001]

Take notice that on April 24, 2003, Solaro Energy Power Marketing Corporation (Solaro Energy) submitted an amended petition for acceptance of Solaro Energy Rate Schedule FERC No. 1; the granting of certain blanket approvals, including the authority to sell electricity at market-based rates; and the waiver of certain Commission regulations which was originally filed on April 16, 2003.

Solaro Energy states that the amended petition clarifies its April 16, 2003 filing by indicating that Solaro Energy: (1) Intends to engage in wholesale electric power and energy purchases and sales as a marketer; (2) is not in the business of generating or transmitting electric power; and (3) is a wholly-owned subsidiary of Solaro Energy Marketing Corporation.

Comment Date: May 15, 2003.

6. Accent Energy New Jersey LLC

[Docket No. ER03-771-000]

Take notice that on April 24, 2003, Accent Energy New Jersey LLC (Accent) petitioned the Federal Energy Regulatory Commission for acceptance of Accent Rate Schedule FERC No. 1; the granting of certain blanket approvals, including the authority to sell electricity at market-based rates; and the waiver of certain Commission regulations.

Accent states that it intends to engage in wholesale electric power and energy purchases and sales as a marketer. Accent indicates that it is not in the business of generating or transmitting electric power. Accent states that it sells electricity to customers in various deregulated states.

Comment Date: May 15, 2003.

7. Tampa Electric Company

[Docket No. ER03-772-000]

Take notice that on April 24, 2003, Tampa Electric Company (TEC) tendered for filing a Notice of Termination of the Interconnection and Operating Agreement (IOA) between Tampa Electric Company and Cargill Fertilizer, Inc., (Cargill) Substitute Service Agreement No. 77. TEC states that termination of the IOA has been mutually agreed to by TEC and Cargill. TEC requests that the termination be made effective March 25, 2003, as mutually agreed by the parties.

Comment Date: May 15, 2003.

8. New England Power Company

[Docket No. ER03-773-000]

Take notice that on April 24, 2003, New England Power Company (NEP) submitted for filing First Revised Service Agreement No. 179 between NEP and Pascoag Utility District under NEP's open access transmission tariff, New England Power Company, FERC Electric Tariff, Second Revised Volume No. 9. NEP states that the parties have modified the Service Agreement to include provisions for metering associated with a new substation that will connect to the lines of NEP's affiliate the Narragansett Electric Company. NEP indicates that this substation contains a new switch gear, the design of which includes equipment to measure deliveries over NECO lines.

Comment Date: May 15, 2003.

9. Eagle Energy Partners, Inc.

[Docket No. ER03-774-000]

Take notice that on April 25, 2003, Eagle Energy Partners, Inc., petitioned the Commission for acceptance of its Rate Schedule FERC No. 1, the granting of certain blanket approvals, including the authority to sell electricity at market-based rates, and the waiver of certain of the Commission's Regulations.

Comment Date: May 16, 2003.

10. FortisOntario Inc.

[Docket No. ER03-775-000]

Take notice that on April 25, 2003, FortisOntario Inc., tendered for filing a Notice of Succession pursuant to section 35.16 of the Commission's Regulations. As a result of the amalgamation, approved by letter order dated January 31, 2003, in Docket No. EC03-41-000, FortisOntario states it is succeeding to the tariffs and related service agreements of FortisUS Energy Corporation, effective April 1, 2003.

Comment Date: May 16, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-11120 Filed 5-5-03; 8:45 am]

BILLING CODE 6717-01-P